DEPARTMENT OF AGRICULTURE

Natural Resources Conservation Service

Notice of Meeting of the Agriculture Air Quality Task Force

AGENCY: Natural Resources Conservation Service (NRCS), USDA.

ACTION: Notice of Meeting.

SUMMARY: The Agricultural Air Quality Task Force (AAQTF) will meet to continue discussions on air quality issues relating to agriculture.

DATES: The meeting will convene at 8 a.m. on Wednesday, October 3, 2007, through 12 p.m. on Friday, October 5, 2007. A public comment period will be held on October 4, 2007. Individuals making oral presentations should register in person at the meeting site and must bring with them 50 copies of materials they would like distributed. Written materials for AAQTF's consideration prior to the meeting must be received by Michele Laur (address given below) no later than Monday, September 10, 2007.

ADDRESSES: The meeting will be held at the Sheraton Indianapolis City Centre Hotel, 31 West Ohio Street, Indianapolis, Indiana 46204; telephone: (317) 635-2000.

FOR FURTHER INFORMATION CONTACT: Questions and comments should be directed to Michele Laur, Designated Federal Officer. Ms. Laur may be contacted at USDA Natural Resources Conservation Service, Post Office Box 2890, Room 6165-South, Washington, DC 20013; telephone: (202) 720-1858; e-mail: Michele.Laur@wdc.usda.gov.

SUPPLEMENTARY INFORMATION: Notice of this meeting is given under the Federal Advisory Committee Act, 5 U.S.C. App. 2. Additional information concerning AAQTF may be obtained on the Internet at http://www.airquality.nrcs.usda.gov/AAQTF/.

Draft Agenda of the October 3-5, 2007, Meeting of AAQTF*

Wednesday, October 3, Beginning at 8 a.m.

A. Welcome to Indianapolis, Indiana.

B. Discussion of Subcommittee Action Plans and Activities.

C. Discussion of Environmental Issues.

Thursday, October 4 and Friday, October 5

D. Discussion of Subcommittee Action Plans and Activities.

E. Discussion of Indiana Air Quality Issues.

F. Discussion of Ozone.

G. Discussion of Climate Change.

H. Next Meeting, Time and Place.

I. Public Comments.

(Time will be reserved on October 4, 2007, to receive public comment. Individual presentations will be limited to 5 minutes).

*Please note that the timing of events in the agenda is subject to change to accommodate changing schedules of expected speakers.

Procedural

This meeting is open to the public. At the discretion of the Chair, members of the public may give oral presentations during the meeting. Those persons wishing to make oral presentations should register in person at the meeting site. Those wishing to distribute written materials at the meeting (in conjunction with spoken comments) must bring 50 copies of the materials with them. Written materials for distribution to AAQTF members prior to the meeting must be received by Ms. Laur no later than Monday, September 10, 2007.

Information on Services for Individuals With Disabilities

For information on facilities or services for individuals with disabilities, or to request special assistance at the meeting, please contact Ms. Laur. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (braille, large print, audio tape, etc.) should contact the USDA's Target Center at (202) 720-2000 (voice and TDD). USDA is an equal opportunity provider and employer.

Dated: Signed in Washington, DC on August 23, 2007.
Arlen L. Lancaster,
Chief.

[FR Doc. 07-4265 Filed 8-30-07; 8:45 am]

BILLING CODE 3410-16-M &